DEPARTMENT OF COMMERCE

National Institute of Standards and Technology

Proposed Information Collection; Comment Request; Evacuation Movement and Behavior Questionnaire

AGENCY: National Institute of Standards and Technology (NIST).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 19, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Erica Kuligowski, erica.kuligowski@nist.gov, 301-975-2309.

SUPPLEMENTARY INFORMATION:

I. Abstract

NIST will be collecting data on evacuation behavior and movement of occupants from approximately 50 high-rise building evacuation drills in cities across the United States at a rate of several buildings per year. The proposed data collection will consist of questionnaires that will be handed out to occupants who have evacuated previously-identified high-rise buildings as a part of a scheduled evacuation drill. The purpose of these questionnaires is to obtain information (anonymously) on: (1) The background of the occupant (occupant demographics, previous training and education in fire safety, and previous experience in fire evacuations); (2) actions and decisions made by the occupant on his/her floor during the building evacuation; and (3) actions and decisions made by the occupant during the building evacuation via the stairs and/or elevators. This information is necessary to better inform building and life safety code requirements, building occupant education and training about fire safety, and tools that are currently used to assess the life safety of tall buildings in the United States.

High-rise buildings of interest include buildings of varying heights (e.g., 1-10 stories, 11-20 stories, 21-35 stories, and 35+ stories) and of varying occupancy types (e.g., residential, office, and assembly occupancies).

II. Method of Collection

This data will be collected via paper questionnaires that are handed out by the city or building's fire department staff or NIST staff to occupants after the scheduled evacuation drill has taken place. The questionnaires will be returned to fire department staff or each questionnaire will be equipped with a NIST-addressed envelope and pre-paid postage.

III. Data

OMB Control Number: 0693-0051.

Form Number: None.

Type of Review: Regular submission (extension of a currently approved information collection).

Affected Public: Individuals or households.

Estimated Number of Respondents: 20,000.

Estimated Time per Response: 10 minutes.

Estimated Total Annual Burden Hours: 3,334.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 14, 2011
Gwellnar Banks,
Management Analyst, Office of the Chief Information Officer.

[FR Doc. 2011-18190 Filed 7-19-11; 8:45 am]

BILLING CODE 3510-13-P